ENVIRONMENTAL PROTECTION AGENCY

[ER-FRL-9028-6]

Environmental Impact Statements; Notice of Availability

Responsible Agency: Office of Federal Activities, General Information (202) 564-7146 or http://www.epa.gov/nepa.

Weekly receipt of Environmental Impact Statements (EIS)

Filed 08/08/2016 Through 08/12/2016

Pursuant to 40 CFR 1506.9.

Notice

Section 309(a) of the Clean Air Act requires that EPA make public its comments on EISs issued by other Federal agencies. EPA's comment letters on EISs are available at: http://www.epa.gov/compliance/nepa/eisdata.html.

EIS No. 20160186, Final, USFWS, NAT, National Wildlife Refuge System Revision of Regulations Governing Non-Federal Oil and Gas Rights, Review Period Ends: 09/19/2016, Contact: Scott Covington 703-358-2427

EIS No. 20160187, Draft, Caltrans, CA, Northwest SR-138 Corridor, Comment Period Ends: 10/03/2016, Contact: Natalie Hill 213-897-0841

Amended Notices

EIS No. 20160168, Draft, NSA, MD, East Campus Integration Program, Comment Period Ends: 09/06/2016, Contact: Jeffrey Williams 301-688-2970.

Revision to FR Notice Published 07/22/2016; Correct Comment Period from 9/05/2016 to 09/06/2016.

Dated: August 16, 2016.
Dawn Roberts,
Management Analyst, NEPA Compliance Division, Office of Federal Activities.

[FR Doc. 2016-19851 Filed 8-18-16; 8:45 am]

BILLING CODE 6560-50-P